Executive Order 13307 of May 29, 2003

European Central Bank

By the authority vested in me as President by the Constitution and the laws of the United States of America, including sections 1 and 15 of the International Organizations Immunities Act (22 U.S.C. 288 and 288f-5), I hereby extend to the European Central Bank the privileges, exemptions, and immunities provided to public international organizations designated by the President under the International Organizations Immunities Act.

This extension of such privileges, exemptions, and immunities is not intended to abridge in any respect privileges, exemptions, or immunities that the European Central Bank otherwise may have acquired or may acquire by international agreements or by law.

B

THE WHITE HOUSE,

May 29, 2003.

[FR Doc. 03-14117

Filed 6-2-03; 9:30 am]

Billing code 3195-01-P